NUCLEAR REGULATORY COMMISSION

[Docket No. 50-261]

Carolina Power & Light Company; Notice of Partial Denial of Amendment to Facility Operating License and Opportunity for Hearing

The U.S. Nuclear Regulatory Commission (NRC or the Commission) has denied a portion of an amendment request by the Carolina Power & Light Company (the licensee) for an amendment to Renewed Facility Operating License No. DPR-23 issued to the licensee for operation of the H. B. Robinson Steam Electric Plant, Unit No. 2, located in Darlington County, South Carolina. The Notice of Consideration of Issuance of this amendment was published in the Federal Register on April 1, 2003 (68 FR 15758).

The purpose of the licensee's amendment request was to revise the Technical Specifications (TS) to fully implement the alternative source term (AST).

The NRC staff has concluded that the portion of the licensee's request regarding use of the AST for loss-of-coolant accidents cannot be granted. The licensee was notified of the Commission's denial of the proposed change by a letter dated September 24, 2004.

By 30 days from the date of publication of this notice in the Federal Register, the licensee may demand a hearing with respect to the denial described above. Any person whose interest may be affected by this proceeding may file a written petition for leave to intervene pursuant to the requirements of 10 CFR 2.309.

A request for hearing or petition for leave to intervene must be filed with the Secretary of the Commission, U.S. Nuclear Regulatory Commission, Washington, DC 20555-0001 Attention: Rulemakings and Adjudications Staff, or may be delivered to the Commission's Public Document Room (PDR), located at One White Flint North, Public File Area O1 F21, 11555 Rockville Pike (first floor), Rockville, Maryland, by the above date. Because of continuing disruptions in delivery to mail to U.S. Government offices, it is requested that petitions for leave to intervene and requests for hearing be transmitted to the Secretary of the Commission either by means of facsimile transmission to 301-415-1101 or by e-mail to hearingdocket@nrc.gov. A copy of any petitions should also be sent to the Office of the General Counsel, U.S. Nuclear Regulatory Commission, Washington, DC 20555-0001, and because of continuing disruptions in delivery of mail to the U.S. Government offices, it is requested that copies be transmitted either by means of facsimile transmission to 301-415-3725 or by e-mail to OGCMailCenter@nrc.gov. A copy of any petitions should also be sent to Steven R. Carr, Associate General Counsel—Legal Department, Progress Energy Service Company, LLC, Post Office Box 1551, Raleigh, North Carolina 27602, attorney for the licensee.

For further details with respect to this action, see (1) the application for amendment dated May 10, 2002, and supplemental letters dated March 12, 2003, April 10, 2003, March 5, 2004, and July 22, 2004, and (2) the Commission's letter to the licensee dated September 24, 2004.

Documents may be examined, and/or copied for a fee, at the NRC's PDR, located at One White Flint North, 11555 Rockville Pike (first floor), Rockville, Maryland, and will be accessible electronically through the Agencywide Documents Access and Management System's Public Electronic Reading Room link at the NRC Web site http://www.nrc.gov/reading-rm/adams.html. Persons who do not have access to ADAMS or who encounter problems in accessing documents located in ADAMS, should contact the NRC PDR Reference staff by telephone at 1-800-397-4209, 301-415-4737, or by e-mail to pdr@nrc.gov.

Dated at Rockville, Maryland, this 24th day of September 2004.
For the Nuclear Regulatory Commission.
Edwin M. Hackett,
Director, Project Directorate II, Division of Licensing Project Management, Office of Nuclear Reactor Regulation.

[FR Doc. 04-22047 Filed 9-30-04; 8:45 am]

BILLING CODE 7590-01-P